DEPARTMENT OF HEALTH AND HUMAN SERVICES

National Institutes of Health

National Institute of Neurological Disorders and Stroke; Notice of Meetings

Pursuant to section 10(d) of the Federal Advisory Committee Act, as amended (5 U.S.C. Appendix 2), notice is hereby given of meetings of the National Advisory Neurological Disorders and Stroke Council.

The meeting will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Neurological Disorders and Stroke Council, Infrastructure, Neuroinformatics and Computational Neuroscience Subcommittee.

Date: September 8, 2004.

Time: 8 p.m. to 10 p.m.

Agenda: To discuss research mechanisms and infrastructure needs.

Place: Hyatt Regency Bethesda, One Bethesda Metro Center, 7400 Wisconsin Avenue, Bethesda, MD 20814.

Contact Person: Robert Baughman, MD, Associate Director for Technology Development, National Institutes of Neurological Disorders and Stroke, National Institutes of Health, 6001 Executive Blvd., Suite 2137, MSC 9527, Bethesda, MD 20892-9527, (301) 496-1779.

Name of Committee: National Advisory Neurological Disorders and Stroke Council, Clinical Trials Subcommittee.

Date: September 9, 2004.

Open: 8 a.m. to 8:30 a.m.

Agenda: To discuss clinical trial policy.

Place: National Institutes of Health, Building 1, 1 Center Drive, Wilson Hall, Bethesda, MD 20892.

Closed: 8:30 a.m. to 10 a.m.

Agenda: To review and evaluate grant applications.

Place: National Institutes of Health, Building 1, 1 Center Drive, Wilson Hall, Bethesda, MD 20892.

Contact Person: John Marler, MD, Associate Director for Clinical Trials, National Institutes of Neurological Disorders and Stroke, National Institutes of Health, 6001 Executive Blvd., Suite 2216, Bethesda, MD 20892, (301) 496-9135. jm137f@nih.gov.

Name of Committee: National Advisory Neurological Disorders and Stroke Council, Training and Career Development Subcommittee.

Date: September 9, 2004.

Time: 8 a.m. to 10 a.m.

Agenda: To discuss the training programs of the Institute.

Place: National Institutes of Health, Building 31, 31 Center Drive, Room 8A28, Bethesda, MD 20892.

Contact Person: Margaret Jacobs, Acting Training and Special Programs Officer, National Institutes of Neurological Disorders and Stroke, National Institutes of Health, 6001 Executive Blvd., Suite 2154, MSC 9527, Bethesda, MD 20892-9527, (301) 496-4188, mj22o@nih.gov.

Name of Committee: National Advisory Neurological Disorders and Stroke Council.

Date: September 9-10, 2004.

Open: September 9, 2004, 10:30 a.m. to 5 p.m.

Agenda: Report by the Director, NINDS; Report by the Acting Director, Division of Extramural Research and other administrative and program developments.

Place: National Institutes of Health, Building 1, 1 Center Drive, Wilson Hall, Bethesda, MD 20892.

Closed: September 10, 2004, 8 a.m. to 11 a.m.

Agenda: To review and evaluate grant applications.

Place: National Institutes of Health, Building 1, 1 Center Drive, Wilson Hall, Bethesda, MD 20892.

Contact Person: Alan L. Willard, PhD, Acting Director, Division of Extramural Research, National Institute of Neurological Disorders and Stroke, NIH, 6001 Executive Blvd., Suite 3309, MSC 9531, Bethesda, MD 20892-9531, (301) 496-9248.

Any interested person may file written comments with the committee by forwarding the statement to the Contact Person listed on this notice. The statement should include the name, address, telephone number and when applicable, the business or professional affiliation of the interested person.

In the interest of security, NIH has instituted stringent procedures for entrance into the building by non-government employees. Persons without a government I.D. will need to show a photo I.D. and sign-in at the security desk upon entering the building.

Information is also available on the Institute's/Center's home page: www.ninds.nih.gov, where an agenda and any additional information for the meeting will be posted when available.

(Catalogue of Federal Domestic Assistance Program Nos. 93.853, Clinical Research Related to Neurological Disorders; 93.854, Biological Basis Research in the Neurosciences, National Institutes of Health, HHS)

Dated: August 10, 2004.
LaVerne Y. Stringfield,
Director, Office of Federal Advisory Committee Policy.

[FR Doc. 04-19134 Filed 8-19-04; 8:45 am]

BILLING CODE 4140-01-M